DEPARTMENT OF ENERGY

Federal Energy Regulatory Commission

Combined Notice of Filings

Take notice that the Commission has received the following Natural Gas Pipeline Rate and Refund Report filings:

Filings Instituting Proceedings

Docket Numbers: RP22-472-000.

Applicants: Interstate Gas Supply, Inc. Dominion Energy Solutions, Inc.

Description: Interstate Gas Supply, Inc. and Dominion Energy Solutions, Inc. al. submits Fourth and Final Status Report.

Filed Date: 10/14/22.

Accession Number: 20221014-5195.

Comment Date: 5 p.m. ET 10/26/22.

Docket Numbers: RP23-24-000.

Applicants: Tennessee Gas Pipeline Company, L.L.C.

Description: § 4(d) Rate Filing: PAL NRA Wells Fargo Commodities, LLC SP380777 & SP380778 to be effective 11/1/2022.

Filed Date: 10/14/22.

Accession Number: 20221014-5032.

Comment Date: 5 p.m.ET 10/26/22.

Docket Numbers: RP23-25-000.

Applicants: Texas Eastern Transmission, LP.

Description: Compliance filing: TETLP October 2022 Penalty Disbursement Report to be effective N/A.

Filed Date: 10/14/22.

Accession Number: 20221014-5141.

Comment Date: 5 p.m. ET 10/26/22.

Docket Numbers: RP23-26-000.

Applicants: Rockies Express Pipeline LLC.

Description: § 4(d) Rate Filing: REX 2022-10-14 Negotiated Rate Agreements Amendments to be effective 10/15/2022.

Filed Date: 10/14/22.

Accession Number: 20221014-5206.

Comment Date: 5 p.m. ET 10/26/22.

Docket Numbers: RP23-27-000.

Applicants: Iroquois Gas Transmission System, L.P.

Description: § 4(d) Rate Filing: 10.17.22 Negotiated Rates—Ag Energy Co-operative Ltd. R-8075-02 to be effective 11/1/2022.

Filed Date: 10/17/22.

Accession Number: 20221017-5026.

Comment Date: 5 p.m. ET 10/31/22.

Docket Numbers: RP23-28-000.

Applicants: Iroquois Gas Transmission System, L.P.

Description: § 4(d) Rate Filing: 10.17.22 Negotiated Rates—Macquarie Energy LLC R-4090-26 to be effective 11/1/2022.

Filed Date: 10/17/22.

Accession Number: 20221017-5027.

Comment Date: 5 p.m. ET 10/31/22.

Docket Numbers: RP23-29-000.

Applicants: Iroquois Gas Transmission System, L.P.

Description: § 4(d) Rate Filing: 10.17.22 Negotiated Rates—Freepoint Commodities LLC R-7250-44 to be effective 11/1/2022.

Filed Date: 10/17/22.

Accession Number: 20221017-5029.

Comment Date: 5 p.m. ET 10/31/22.

Docket Numbers: RP23-30-000.

Applicants: Iroquois Gas Transmission System, L.P.

Description: § 4(d) Rate Filing: 10.17.22 Negotiated Rates—Freepoint Commodities LLC R-7250-45 to be effective 11/1/2022.

Filed Date: 10/17/22.

Accession Number: 20221017-5035.

Comment Date: 5 p.m. ET 10/31/22.

Docket Numbers: RP23-31-000.

Applicants: Iroquois Gas Transmission System, L.P.

Description: § 4(d) Rate Filing: 10.17.22 Negotiated Rates—Uniper Global Commodities North America R-7650-05 to be effective 11/1/2022.

Filed Date: 10/17/22.

Accession Number: 20221017-5038.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-1056-001.

Applicants: Enable Mississippi River Transmission, LLC.

Description: Compliance filing: FERC Record ID Correction Filing to be effective 8/19/2022.

Filed Date: 10/17/22.

Accession Number: 20221017-5059.

Comment Date: 5 p.m. ET 10/31/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number. eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2022.
Debbie-Anne A. Reese,
Deputy Secretary.

[FR Doc. 2022-22918 Filed 10-20-22; 8:45 am]

BILLING CODE 6717-01-P